DEPARTMENT OF THE INTERIOR

National Park Service

[NPS-WASO-NRNHL-DTS#-26590; PPWOCRADI0, PCU00RP14.R50000]

National Register of Historic Places; Notification of Pending Nominations and Related Actions

AGENCY: National Park Service, Interior.

ACTION: Notice.

SUMMARY: The National Park Service is soliciting comments on the significance of properties nominated before September, 22, 2018, for listing or related actions in the National Register of Historic Places.

DATES: Comments should be submitted by November 1, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before September, 22, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Maricopa County,

Phoenix Motor Company, 401 W Van Buren St., Phoenix, SG100003064

IOWA

Jasper County

Colfax Spring City Commercial Historic District, Roughly Division to Front Sts. between Elm & Locust Sts., Colfax, SG100003065

Woodbury County

Everett School, 1314 W 3rd St., Sioux City, SG100003066

MASSACHUSETTS

Franklin County

Gill Center Historic District, Center, Main, Cross, Boyle, River, & Lyons Hill Rds., Gill, SG100003068

Middlesex County

Dunstable Center Historic District, High, Highland, Main, & Pleasant Sts., Dunstable, SG100003069

Suffolk County

Esmond Street Historic District, Bicknell, Bradshaw, Esmond, & Harvard Sts., Boston, SG100003070

SOUTH DAKOTA

Charles Mix County

Security State Bank of Dante, 320 Main St., Dante, SG100003072

TEXAS

Bexar County

Poe Motor Company, 900 Broadway St., San Antonio, SG100003073

Additional documentation has been received for the following resource:

ARIZONA

Maricopa County

Campus Vista Historic District (Residential Subdivisions and Architecture in Central Phoenix, 1870-1963, MPS), 923 W Catalina Dr., Phoenix, AD10000321

Nominations submitted by Federal Preservation Officers:

The State Historic Preservation Officer reviewed the following nomination and responded to the Federal Preservation Officer within 45 days of receipt of the nomination and supports listing the property in the National Register of Historic Places.

OHIO

Greene County

Brick Quarters Historic District, Chidlaw Rd. & Metzger Dr., Wright-Patterson AFB, SG100003071

The following nomination is not located in state waters and therefore not subject to review by the State Historic Preservation Officer:

LOUISIANA

Plaquemines Parish

ANONA (shipwreck and remains), Address Restricted, Pilottown vicinity, SG100003067

Authority: Section 60.13 of 36 CFR part 60.

Dated: September 24, 2018.
Julie H. Ernstein,
Acting Chief, National Register of Historic Places/National Historic Landmarks Program and Deputy Keeper of the National Register of Historic Places.

[FR Doc. 2018-22525 Filed 10-16-18; 8:45 am]

BILLING CODE 4312-52-P